DEPARTMENT OF VETERANS AFFAIRS

[OMB Control No. 2900-New]

PREVENTS Agency Information Collection Activity: Service Level Measurement-PREVENTS Survey

AGENCY: Veterans Experience Office, Department of Veterans Affairs.

ACTION: Notice.

SUMMARY: In compliance with the Paperwork Reduction Act (PRA) of 1995, this notice announces that the Veterans Experience Office, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-New.

FOR FURTHER INFORMATION CONTACT: Danny S. Green, Enterprise Records Service (005R1B), Department of Veterans Affairs, 810 Vermont Avenue NW, Washington, DC 20420, (202) 421-1354 or email danny.green2@va.gov. Please refer to “OMB Control No. 2900- New” in any correspondence.

SUPPLEMENTARY INFORMATION:

Authority: 44 U.S.C. 3501-21.

Title: Service Level Measurement- PREVENTS Survey.

OMB Control Number: None.

Type of Review: New collection.

Abstract:

This survey provides customer experience insights related to the experience of Veterans in accessing services and resources made possible via Executive Order 13861, known as the President's Roadmap to Empower Veterans and End a National Tragedy of Suicide (PREVENTS). Feedback on this survey from Veterans Service Organizations, Veterans, and community organizations will help ensure that the PREVENTS Office has the information it needs to implement the Roadmap and communicate its efforts to empower Veterans and prevent suicide. Survey respondents will include Veterans Service Organization Members, Veterans, and individuals affiliated with nonprofit and community organizations. This survey is a nonprobability-based survey and is not intended to make inferences about any overall population. This survey will be administered to Veterans who are affiliated with Veteran Service Organizations, individuals affiliated with Veteran-focused community-based or nonprofit organizations, or individuals who are affiliated with Veteran Service Organizations (VSOs). The survey will be publicized via an article that contains a survey link in a Blog in the Vet Resources Newsletter produced by the Department of Veterans Affairs, email communications with Veterans Service Organizations, and email, in-person, and video-message communications to community-based organizations and strategic partners. Collected data are uploaded to the VSignals survey analysis tool and raw data are made present for analysis. Survey questions focus on current and potential mental health resources, communication channels, and outreach strategies that are currently being provided, or could be provided, to Veterans to ensure their safety and security.

An agency may not conduct or sponsor, and a person is not required to respond to a collection of information unless it displays a currently valid OMB control number. The Federal Register Notice with a 60-day comment period soliciting comments on this collection of information was published at Vol. 85, No. 50 on March 13, 2020, pages 14727-14728.

Affected Public: Individuals.

Estimated Annual Burden: 4,767 hours.

Estimated Average Burden per Respondent: 5 minutes.

Frequency of Response: One time.

Estimated Number of Respondents: 57,200.

By direction of the Secretary.
Danny S. Green,
VA Clearance Officer, Office of Quality, Performance and Risk, Department of Veterans Affairs.

[FR Doc. 2020-11184 Filed 5-22-20; 8:45 am]

BILLING CODE 8320-01-P